DEPARTMENT OF THE INTERIOR

Fish and Wildlife Service

50 CFR Part 17

[Docket No. FWS-R2-ES-2013-0056; FXES11130900000-156-FF09E42000]

RIN 1018-AY46

Endangered and Threatened Wildlife and Plants; Revision to the Regulations for the Nonessential Experimental Population of the Mexican Wolf; Correction

AGENCY: Fish and Wildlife Service, Interior.

ACTION: Final rule; correction.

SUMMARY: We, the U.S. Fish and Wildlife Service, published a final rule in the Federal Register on January 16, 2015, that revises the regulations for the nonessential experimental population of the Mexican wolf (Canis lupus baileyi). In that rule, we made an error in our description of Phase 2 by stating that dispersal and occupancy of Mexican wolves west of Interstate 17 will be limited to the area west of Highway 89 in Arizona. We intended to state that dispersal and occupancy of Mexican wolves west of Interstate 17 will be limited to the area east of Highway 89. With this document, we correct our error.

DATES: This correction is effective February 17, 2015.

FOR FURTHER INFORMATION CONTACT: Sherry Barrett, (505) 761-4704.

SUPPLEMENTARY INFORMATION: In a final rule that published in the Federal Register on January 16, 2015, at 80 FR 2512, the following correction is made:

§ 17.84 [Corrected]

1. On page 2564, in the third column, the fourth sentence of § 17.84(k)(9)(iv)(B) is amended by removing the words “west of Highway 89” and adding in their place the words “east of Highway 89.”

Dated: January 26, 2015.
Signed:
Tina A. Campbell,
Chief, Division of Policy and Directives Management.

[FR Doc. 2015-01687 Filed 1-28-15; 8:45 am]

BILLING CODE 4310-55-P